FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Expert Cargo Int'l Co., 11200 S. Hindry Avenue, 2nd Floor, Los Angeles, CA 90045, Scott Jang, Sole Proprietor.

Seahawk Logistics, Inc., 520 Carson Plaza Court, Suite #206, Carson, CA 90746, Officer: Sang Gyu Park, President (Qualifying Individual).

Non-Vessel Operating Common Carrier and Ocean Freight Forwarder Transportation Intermediary Applicants

Dietrich Exccel LLC. dba Nautilus Global Shipping LLC, 7818 NW 46th Street, Miami, FL 33166, Officers: Waldyr Silva, General Manager (Qualifying Individual), Joao Carlos Villaca, Partner.

MH Transport, LLC, 1720 North Sam Houston Parkway East, Houston, TX 77032, Officers: Thomas Lyle Armel, Vice President (Qualifying Individual), Olivia Decaro, President.

Dated: December 5, 2003.
Bryant L. VanBrakle,
Secretary.

[FR Doc. 03-30667 Filed 12-10-03; 8:45 am]

BILLING CODE 6730-01-P